DEPARTMENT OF TRANSPORTATION

Federal Railroad Administration

[Docket No. FRA-2019-0004-N-6]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before August 13, 2019.

ADDRESSES: Submit written comments on the ICRs activities by mail to either: Mr. Robert Brogan, Information Collection Clearance Officer, Office of Railroad Safety, Regulatory Analysis Division, Federal Railroad Administration, 1200 New Jersey Avenue SE, Washington, DC 20590; or Ms. Kim Toone, Information Collection Clearance Officer, Office of Information Technology, Federal Railroad Administration, 1200 New Jersey Avenue SE, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to 202-493-6216 or 202-493-6497, or emailed to Mr. Brogan at robert.brogan@dot.gov, or Ms. Toone at kim.toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, Federal Railroad Administration, 1200 New Jersey Avenue SE, Washington, DC 20590 (telephone: 202-493-6292) or Ms. Kim Toone, Information Collection Clearance Officer, Office of Information Technology, Federal Railroad Administration, 1200 New Jersey Avenue SE, Washington, DC 20590 (telephone: 202-493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: U.S. DOT Crossing Inventory.

OMB Control Number: 2130-0017.

Abstract: On January 6, 2015, FRA published in the Federal Register a final rule that requires railroads that operate one or more trains through highway-rail or pathway crossings to submit information to the U.S. DOT National Highway-Rail Crossing Inventory about the crossings through which they operate.¹ See 80 FR 746. These amendments, mandated by section 204 of the Rail Safety Improvement Act of 2008, require railroads to submit information about previously unreported and new highway-rail and pathway crossings to the U.S. DOT National Highway-Rail Crossing Inventory and to periodically update existing crossing data.

¹ This final rule was subsequently amended on June 10, 2016, in response to a petition for reconsideration submitted by the Association of American Railroads. See 81 FR 37521.

Type of Request: Extension with change (revised estimates) of a current information collection.

Affected Public: Businesses (railroads), States, and the District of Columbia (DC).

Form(s): FRA F 6180.71.

Respondent Universe: 692 railroads, 50 States and DC.

Frequency of Submission: On occasion/monthly.

Reporting Burden:

CFR section | Respondent universe | Total annual responses | Average time per response | Total annual burden hours | Total annual burden hour dollar cost equivalent ²
234.403(a), (b), (c), (e)(3)—Submission of data to the U.S. DOT Highway-Rail Crossing Inventory: Completion of inventory form | 51 States/DC & 692 railroads | 1,495 forms | 30 minutes | 748 hours | $55,352
—Mass update lists of designated data submitted by railroads/states | 51 States/DC & 692 railroads | 1,081 lists | 30 minutes | 541 | 40,034
—Excel lists of submitted data | 51 States/DC & 692 railroads | 750 lists | 15 minutes | 188 | 13,912
—Changes/corrections to Crossing Inventory data submitted via GX 32 computer program | 51 States/DC & 692 railroads | 134,719 records | 3 minutes | 6,736 | 498,464
—Written requests by states/railroads for FRA Crossing Inventory Guide | 51 States/DC & 692 railroads | 5 requests | 15 minutes | 1 hour | 74
(d)—Reporting Crossing Inventory data by state agencies on behalf of railroads: Written notices to FRA | 51 States/DC & 692 railroads | 15 notices | 30 minutes | 8 | 592
(e)(1)—Consolidated reporting by parent corporation on behalf of its subsidiary railroads: Written notice to FRA | 692 railroads | 250 notices | 30 minutes | 125 | 9,625
(e)(2)—Immediate notification to FRA by parent corporation of any changes in the list of subsidiary railroads for which it reports | 692 railroads | 75 notices | 30 minutes | 38 | 2,926
234.405(a)(1)—Initial submission of previously unreported highway-rail and pathway crossings through which they operate by primary operating railroads: Providing assigned crossing inventory number to each railroad that operates one or more trains through crossing | 692 railroads | 5,300 provided assigned inventory numbers | 5 minutes | 442 | 34,034
—Primary operating railroad providing assigned inventory number to other (2) railroads operating through crossing | 692 railroads | 10,600 assigned numbers | 5 minutes | 883 | 67,991
(a)(3)—Completed inventory forms for each previously unreported crossing | 692 railroads | 5,300 forms | 20 minutes | 1,767 | 136,059
(c)—Duty of all operating railroads: Notification to FRA of previously unreported crossing through which it operates | 692 railroads | 450 notices/notifications | 20 minutes | 150 | 11,550
(d)—Incomplete submission by state agency: Written certification by primary operating railroad that state has not provided requested crossing information | 692 railroads | 35 certification statements | 2 minutes | 1 hour | 77
—Copies of written certification statements to other operating railroads and responsible state agency | 692 railroads | 105 mailed certification copies | 2 minutes | 4 | 308
234.407(a)—Submission of initial data to the Crossing Inventory for new Crossings: Providing assigned inventory numbers for new highway-rail and pathway crossings through which they operate by primary operating railroads to each railroad that operates one or more trains through the crossing | 692 railroads | 50 assigned inventory numbers | 5 minutes | 4 | 308
(a)(3)—Completed inventory forms for each new highway-rail & pathway crossing provided each operating railroad operating trains through crossing | 692 railroads | 50 forms | 5 minutes | 4 | 308
(b) Each operating railroad must submit accurate inventory forms or electronic equivalent to the FRA crossing inventory for new highway-rail & pathway crossings operating on separate tracks | 692 railroads | 50 inventory forms | 1.5 | 75 | 5,775
234.409(a)—Submission of periodic updates to the Crossing Inventory by primary operating railroad | 692 railroads | 80,775 crossing invent. updates | 2.5minutes | 3,366 | 259,182
234.411(a)—Crossing sale: Submission of Crossing Inventory form by any operating railroad that sells all or part of highway-rail and pathway crossing | 692 railroads | 400 updated crossing inventory forms | 2 | 800 | 61,600
—Notification/report by railroad to primary operating railroad of sale of all or part of a highway-rail or pathway on or after June 10, 2016 | 692 railroads | 400 notices/reports | 15 minutes | 100 | 7,700
(b)—Crossing closure: Submission of Crossing Inventory form by primary operating railroad that closes highway-rail and pathway crossing | 692 railroads | 85 crossing inventory forms (closures) | 5 minutes | 7 | 539
(c)—Primary operating RR submission of inventory form for any surface/warning device changes at crossing | 692 railroads | 400 forms | 30 minutes | 200 | 15,400
234.413(a & b)—Recordkeeping—RR Duplicate copy of each inventory form submitted in hard copy to the Crossing Inventory | 692 railroads | 5,901 duplicate copies | 1 minute | 98 | 7,546
—Copy of electronic confirmation received from FRA after electronic submission of crossing data to Crossing Inventory | 692 railroads | 80,775 copies | 1 minute | 1,346 | 103,642
—List of locations where a copy of any record required by this Subpart may be accessed and copied | 692 railroads | 692 lists | 5 minutes | 58 | 4,466

Total Estimated Annual Responses: 329,758.

² Based on Bureau of Labor Statistics (BLS) data, FRA is using an average hourly wage rate of 74 per hour for State employees to determine the dollar equivalent cost of estimated burden. Based on the 2017 American Association publication, Railroad Facts, FRA is using an average hourly wage rate of 77 per hour for professional/administrative to determine the same dollar equivalent costs. All hourly wage rates included 75 percent overhead costs.

Total Estimated Annual Burden: 17,690 hours.

Total Estimated Annual Burden Hour Dollar Cost Equivalent: $1,337,464.

Title: Special Notice for Repairs.

OMB Control Number: 2130-0504.

Abstract: Under 49 CFR part 216, FRA and State inspectors may issue a Special Notice for Repairs to notify a railroad in writing of an unsafe condition involving a locomotive, car, or track. The railroad must notify FRA in writing when the equipment is returned to service or the track is restored to a condition permitting operations at speeds authorized for a higher class, specifying the repairs completed. FRA and State inspectors use this information to remove from service freight cars, passenger cars, and locomotives until they can be restored to a serviceable condition. They also use this information to reduce the maximum authorized speed on a section of track until repairs can be made.

Type of Request: Extension with change (revised estimates) of a current information collection.

Affected Public: Businesses (railroads).

Form(s): FRA F 6180.71.

Respondent Universe: 741 railroads.

Frequency of Submission: On occasion.

Reporting Burden:

CFR section | Respondent universe | Total annual responses | Average time per response | Total annual burden hours | Total annual burden hour dollar cost equivalent
216.13(b)—Special Notice for Repairs: Locomotive—RR reply to special notice for repair informing FRA Regional Administrator that affected locomotive is returned to service | 741 railroads | 5 form replies | 15 minutes | 1 hour | $77
216.15(b)—Special Notice for Repairs: Track—RR reply to special notice for repair informing FRA Regional Administrator that affected track is restored to condition permitting operations at speeds authorized at higher speeds | 741 railroads | 50 form replies | 15 minutes | 13 | 1,001
216.21(b)—Notice of track conditions: Letter from railroad to FRA regional track engineer that affected track has been repaired and is ready for re-inspection | 741 railroads | 1 letter | 60 minutes | 1 hour | 77
216.25—Issuance of review and emergency order: Petition for review of order or letter stating track has been repaired | 741 railroads | 1 letter | 60 minutes | 1 hour | 77

Total Estimated Annual Responses: 57.

Total Estimated Annual Burden: 16 hours.

Total Estimated Annual Burden Hour Dollar Cost Equivalent: $1,232.

Title: Bridge Safety Standards.

OMB Control Number: 2130-0586.

Abstract: The Fixing America's Surface Transportation Act (FAST Act) (Pub. L. 114-94, Dec. 4, 2015), Section 11405, “Bridge Inspection Reports,” provides a means for a State or a political subdivision of a State to obtain a public version of a bridge inspection report generated by a railroad for a bridge located within their respective jurisdiction. While the FAST Act specifies that requests for such reports are to be filed with the Secretary of Transportation, the responsibility for fulfilling these requests is delegated to FRA. See 49 CFR 1.89.

FRA's currently approved information collection accounts for the burden that will be incurred by States and political subdivisions of States requesting a public version of a bridge inspection report generated by a railroad for a bridge located within their respective jurisdiction. FRA developed a Form titled “Bridge Inspection Report Public Version Request Form” to facilitate such requests by States and their political subdivisions. FRA accounts for the burden that will be incurred by railroads to provide the public version of a bridge inspection report upon agency request to FRA.

As background, FRA's final rule on bridge safety standards, 49 CFR part 237, normalized and established federal requirements for railroad bridges. See 75 FR 41281 (July 15, 2010). The final rule established minimum requirements to assure the structural integrity of railroad bridges and to protect the safe operation of trains over those bridges. The final rule required railroads/track owners to implement bridge management programs to prevent the deterioration of railroad bridges and to reduce the risk of human casualties, environmental damage, and disruption to the Nation's transportation system that would result from a catastrophic bridge failure. Bridge management programs were required to include annual inspection of bridges as well as special inspections, which must be conducted if natural or accidental events cause conditions that warrant such inspections. Lastly, the final rule required railroads/track owners to audit bridge management programs and bridge inspections and to keep records mandated under part 237.

The information collected is used by FRA to ensure that railroads/track owners meet Federal standards for bridge safety and comply with all the requirements of this regulation. In particular, the collection of information is used by FRA to confirm that railroads/track owners adopt and implement bridge management programs to properly inspect, maintain, modify, and repair all bridges that carry trains for which they are responsible. Railroads/track owners must conduct annual inspections of railroad bridges. Further, railroads/track owners must incorporate provisions for internal audit into their bridge management program and must conduct internal audits of bridge inspection reports. The internal audit information is used by railroads/track owners to verify that the inspection provisions of the bridge management program are being followed and to continually evaluate the effectiveness of their bridge management program and bridge inspection activities. FRA uses this information to ensure that railroads/track owners implement a safe and effective bridge management program and bridge inspection regime.

Type of Request: Extension with change (revised estimates) of a current information collection.

Affected Public: Businesses (railroads) and States, DC, and political subdivisions).

Form(s): FRA F 6180.167.

Respondent Universe: 741 railroads/50 States and DC/200 political subdivisions.

Frequency of Submission: On occasion/monthly.

Reporting Burden:

CFR section | Respondent universe | Total annual responses | Average time per response | Total annual burden hours | Total annual burden hour dollar cost equivalent ³
FAST ACT SECTION 11405 REQUIREMENTS:
—Form FRA F 6180.167 | 50 states and DC 200 state political subdivisions | 75 forms | 5 minutes | 6 | $402
—Railroad submission to FRA of bridge inspection report—public version | 741 railroads | 75 reports | 60 minutes | 75 | $5,025
237.3—Notifications to FRA of assignment of bridge responsibility and signed statement by assignee concerning bridge responsibility | 741 railroads | 15 notifications + 15 signed statements | 90 minutes + 30 minutes | 30 | $2,310
237.9—Waivers—petitions | 741 railroads | 2 petitions | 4 | 8 | $616
237.57—Designation of qualified individuals | 741 railroads | 200 recorded designations | 15 minutes | 50 | $3,850
237.73—Issuance of instructions to railroad personnel by track owner | 741 railroads | 100 issued written instructions | 2 | 200 | $15,400
237.109—Nationwide annual bridge inspections—reports/records: | 741 railroads | 15,450 insp. reports/records | 15 minutes | 3,863 | $258,821
—Report of deficient condition on a bridge | 741 railroads | 50 reports | 30 minutes | 25 | $1,675
237.155—Documents & records—Establishment of RR monitoring & info. technology security systems for electronic recordkeeping | 741 railroads | 5 systems | 80 | 400 | $30,800
—Employees trained in system | 741 Railroads | 100 employees | 8 | 800 | $61,600

Total Estimated Annual Responses: 16,087.

Total Estimated Annual Burden: 5,457 hours.

Total Estimated Annual Burden Hour Dollar Cost Equivalent: $380,499.

³ Based on the 2017 AAR publication Railroad Facts, FRA calculates the average hourly wage rate for professional/administrative staff at $77 per hour and the average hourly wage rate of bridge workers at $67 per hours to determine the dollar equivalent cost numbers. All hourly wage rates include 75 percent overhead costs.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-12574 Filed 6-13-19; 8:45 am]

BILLING CODE 4910-06-P